DEPARTMENT OF EDUCATION

Office of Safe and Drug-Free Schools; Cooperative Civic Education and Economic Education Exchange Program

Catalog of Federal Domestic Assistance (CFDA) Number: 84.304A.

ACTION: Correction; Notice inviting applications for new awards for fiscal year (FY) 2010.

SUMMARY: On January 20, 2010, we published in the Federal Register (75 FR 3212) a notice inviting applications for FY 2010 for the Cooperative Civic Education and Economic Education Exchange Program. The notice stated that a list of eligible countries was included in the application package (75 FR 3214). The list of eligible countries included in the application package at the time the notice inviting applications for FY 2010 was published was the list that was used in the FY 2009 program grant competition. However, an updated list of eligible countries has since been approved for FY 2010. The new list of eligible countries for FY 2010 is included in an updated application package that has been posted to the following Department of Education Web sites: http://e-Grants.ed.gov and http://www.ed.gov/programs/coopedexchange/applicant.html. Therefore, in order to give applicants adequate time to access the updated application package, we are changing the deadline for the submission of applications to March 15, 2010. With this change in the deadline date, we are also changing the deadline date for intergovernmental review. The specific changes to be made are as follows:

On page 3213, the first column, the date listed for Deadline for Transmittal of Applications is changed to read “March 15, 2010.”

On page 3213, the first column, the date listed for Deadline for Intergovernmental Review is changed to read “May 14, 2010.”

On page 3214, third column, the date listed for Deadline for Transmittal of Applications is changed to read “March 15, 2010.”

On page 3214, third column, the date listed for Deadline for Intergovernmental Review is changed to read “May 14, 2010.”

FOR FURTHER INFORMATION CONTACT: Rita Foy Moss, U.S. Department of Education, 400 Maryland Avenue, SW., Potomac Center Plaza, Room 10006, Washington, DC 20202. Telephone: (202) 245-7866, or by e-mail at rita.foy.moss@ed.gov.

If you use a telecommunications device for the deaf (TDD), call the Federal Relay Service (FRS), toll-free, at 1-800-877-8339.

Accessible Format: Individuals with disabilities can obtain this document in an alternative format (e.g., Braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: February 2, 2010.
Kevin Jennings,
Assistant Deputy Secretary for Safe and Drug-Free Schools.

[FR Doc. 2010-2555 Filed 2-4-10; 8:45 am]

BILLING CODE 4000-01-P